NUCLEAR REGULATORY COMMISSION

Sunshine Act Meeting

DATES: Weeks of June 19, 26, July 3, 10, 17, and 24, 2000.

PLACE: Commissioners' Conference Room, 11555 Rockville Pike, Rockville, Maryland.

STATUS: Public and Closed.

MATTERS TO BE CONSIDERED:

Week of June 19

Monday, June 19, 2000

12:30 p.m. Discussion of Intragovernmental Issues (Closed—Ex. 4 and 9b)

Tuesday, June 20, 2000

9:25 a.m. Affirmation Session (Public Meeting)

a: CAROLINA POWER & LIGHT COMPANY (Shearon Harris Nuclear Power Plant), Docket No. 50-400-LA, LBP-00-12 (Memorandum and Order Ruling on Designation of Issues for an Evidentiary Hearing) (May 5, 2000)

9:30 a.m. Briefing on Final Rule—Part 70-Regulating Fuel Cycle Facilities (Public Meeting) (Contact: Theodore Sherr, 301-415-7218)

1:30 p.m. Briefing on Risk-Informed Part 50, Option 3 (Public Meeting) (Contact: Mary Drouin, 301-415-6675)

Wednesday, June 21, 2000

10:30 a.m. All Employees Meeting (Public Meeting) (“The Green” Plaza Area)

1:30 p.m. All Employees Meeting (Public Meeting) (“The Green” Plaza Area)

Week of June 26—Tentative

There are no meetings scheduled for the Week of June 26.

Week of July 3—Tentative

There are no meetings scheduled for the Week of July 3.

Week of July 10—Tentative

Monday, July 10

1:30 p.m. Briefing on Proposed Export of High Enriched Uranium to Canada (Public Meeting)

Tuesday, July 11

9:25 a.m. Affirmation Session (Public Meeting) (If necessary)

Week of July 17—Tentative

There are no meetings scheduled for the Week of July 17.

Week of July 24—Tentative

Tuesday, July 25

1:25 p.m. Affirmation Session (Public Meeting) (If necessary)

*THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

* * * * *

ADDITIONAL INFORMATION: By a vote of 5-0 on May 30, the Commission determined pursuant to U.S.C. 552b(e) and § 9.107(a) of the Commission's rules that “Discussion of Intragovernmental Issues” (Closed-Ex. 9b) be held on May 30, and on less than one week's notice to the public.

By a vote of 5-0 on June 13, the Commission determined pursuant to U.S.C. 552b(e) and § 9.107(a) of the Commission's rules that “Affirmation of a: NIAGARA MOHAWK POWER CORPORATION (NINE MILE POINT, UNITS 1 & 2); DOCKET NOS. 50-220 & 50-410; and, b: GRAYSTAR, INC. REQUEST FOR HEARING ON LICENSE DENIAL” (PUBLIC MEETING) be held on June 13, and on less than one week's notice to the public.

* * * * *

The NRC Commission Meeting Schedule can be found on the Internet at: http://www.nrc.gov/SECY/smj/schedule.htm

* * * * *

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: June 16, 2000.
William M. Hill, Jr.,
SECY Tracking Officer, Office of the Secretary.

[FR Doc. 00-15775 Filed 6-19-00; 11:19 am]

BILLING CODE 7590-01-M